CHEMICAL SAFETY AND HAZARD INVESTIGATION BOARD

Appointment of Members of Senior Executive Service Performance Review Board

AGENCY: Chemical Safety and Hazard Investigation Board.

ACTION: Notice.

SUMMARY: This notice announces the membership of the Senior Executive Service Performance Review Board for the Chemical Safety and Hazard Investigation Board (CSB).

DATES: Effective October 8, 2003.

FOR FURTHER INFORMATION CONTACT: Raymond C. Porfiri, Office of the General Counsel, (202) 261-7600.

SUPPLEMENTARY INFORMATION: 5 U.S.C. 4314(c) requires each agency to establish, in accordance with regulations prescribed by the Office of Personnel Management, a performance review board (PRB). The PRB reviews initial performance ratings of members of the Senior Executive Services (SES) and makes recommendations on performance ratings and awards for senior executives. Because the CSB is a small independent Federal agency, the SES members of the CSB's PRB are being drawn from other Federal agencies.

The Chairperson of the CSB has appointed the following individuals to the CSB Senior Executive Service Performance Review Board:

Chair of the PRB—John S. Bresland (CSB Board Member).

PRB Member—Dan Campbell (Managing Director, National Transportation Safety Board).

PRB Member—Kathleen O'Brien Ham (Office of Strategic Planning and Policy Analysis, Federal Communications Commission).

This notice is published in the Federal Register pursuant to the requirement of 5 U.S.C. 4314(c)(4).

Dated: October 1, 2003.
Raymond C. Porfiri,
Deputy General Counsel.

[FR Doc. 03-25478 Filed 10-7-03; 8:45 am]

BILLING CODE 6350-01-P